DEPARTMENT OF THE INTERIOR

Bureau of Indian Affairs

[190A2100DD/AAKC001030/A0A501010.999900 253G]

Proclaiming Certain Lands as Reservation for the Confederated Tribes of the Chehalis Reservation, Washington

AGENCY: Bureau of Indian Affairs, Interior.

ACTION: Notice.

SUMMARY: This notice informs the public that the Assistant Secretary—Indian Affairs proclaimed approximately 6.10 acres, more or less, an addition to the reservation of the Confederated Tribes of the Chehalis Reservation, Washington on April 17, 2019.

FOR FURTHER INFORMATION CONTACT: Ms. Sharlene M. Round Face, Bureau of Indian Affairs, Division of Real Estate Services, 1849 C Street NW, MS-4642-MIB, Washington, DC 20240, telephone (505) 563-3132.

SUPPLEMENTARY INFORMATION: This notice is published in the exercise of authority delegated by the Secretary of the Interior to the Assistant Secretary—Indian Affairs by part 209 of the Departmental Manual.

A proclamation was issued according to the Act of June 18, 1934 (48 Stat. 986; 25 U.S.C. 5110) for the lands described below. These lands were proclaimed to be part of the Confederated Tribes of the Chehalis Reservation, Washington Reservation in Thurston County, Washington.

Confederated Tribes of the Chehalis Reservation, Washington Reservation

One Parcel in Thurston County, Washington—Willamette Meridian

Legal Description Containing 6.10 Acres, More or Less

Eagle 4 Property, BIA Tribal Tract Number 157-T1243

Parcel No. 5570-20-00100: The North 175 feet of the East half of Tract 20 of Jackson Fruit Tracts, as recorded in Volume 8 of Plats, page 54, lying Northerly and Westerly of tract conveyed to State of Washington by deed dated October 14, 1958, and recorded under File No. 603747, EXCEPTING THEREFROM those portions conveyed to Thurston County by deeds recorded August 29, 1984 and February 10, 1998 under Auditor's File Nos. 8408290010 and 3134736.

Parcel Nos: 5570-20-00201, 5570-20-00200, 5570-20-00101: Lot 1 of Short Subdivision No. SS-0446, as recorded March 23, 1977 under Auditor's File No. 992514, EXCEPT that portion conveyed to Thurston County by Deed recorded February 10, 1998 under Auditor's File No. 3134743;

AND Lot 2 of Short Subdivision No. SS-0446, as recorded March 23, 1977 under Auditor's File No. 992514;

AND Lot 3 of Short Subdivision No. SS-0446, as recorded March 23, 1977 under Auditor's File No. 992514, TOGETHER WITH that portion of vacated street adjoining pursuant to Resolution No. 13379 recorded July 11, 2005 under Auditor's File No. 3747117.

Parcel No. 5570-20-00300: The West 200 feet of that part of Tract 20 of Jackson Fruit Tracts, as recorded in Volume 8 of Plats, page 54, lying Northerly of U.S. Highway 12 (formerly Primary State Highway No. 9) EXCEPTING THEREFROM those portions conveyed to Thurston County by instruments recorded under Auditor's File Nos. 847624, 8408290008, 8408290009 and 3134744.

The above-described lands contain a total of 6.10 acres, more or less, which are subject to all valid rights, reservations, rights-of-way, and easements of record.

This proclamation does not affect title to the lands described above, nor does it affect any valid existing easements for public roads, highways, public utilities, railroads and pipelines, or any other valid easements or rights-of-way or reservations of record.

Dated: April 17, 2019.
Tara Sweeney,
Assistant Secretary—Indian Affairs.

[FR Doc. 2019-09330 Filed 5-6-19; 8:45 am]

BILLING CODE 4337-15-P